DEPARTMENT OF COMMERCE

Patent and Trademark Office

[Docket No.: PTO-C-2024-0046]

National Medal of Technology and Innovation Nomination Evaluation Committee Meeting

AGENCY: United States Patent and Trademark Office, Department of Commerce.

ACTION: Notice of closed meeting.

SUMMARY: The National Medal of Technology and Innovation (NMTI or Medal) is the nation's highest honor for technological achievement, bestowed by the President of the United States on the nation's leading innovators. The Medal is awarded to individuals, teams (up to four individuals), companies, or divisions of companies for their outstanding contributions to America's economic, environmental, and social well-being. The NMTI Nomination Evaluation Committee will meet in a closed session on September 26, 2024. The primary purpose of the meeting is to discuss the relative merits of the people, teams, and companies nominated for the NMTI.

DATES: The meeting will convene on September 26, 2024, at approximately 9 a.m. and adjourn at approximately 4 p.m.

ADDRESSES: The meeting will take place at the United States Patent and Trademark Office (USPTO), 600 Dulany St., Alexandria, VA 22314.

FOR FURTHER INFORMATION CONTACT: Linda Hosler, Program Manager, National Medal of Technology and Innovation Program, USPTO, at 600 Dulany St., Alexandria, VA 22314; 571-272-8514; or nmti@uspto.gov.

SUPPLEMENTARY INFORMATION: Pursuant to the Federal Advisory Committee Act (FACA), 5 U.S.C. 1001 et seq., notice is hereby given that the NMTI Nomination Evaluation Committee, chartered to the United States Department of Commerce, will meet at the USPTO campus in Alexandria, Virginia, on September 26, 2024.

Through a September 26, 2023, Delegation of Authority from the Secretary of Commerce to the Under Secretary of Commerce for Intellectual Property and Director of the United States Patent and Trademark Office (Director), the Director is responsible for recommending to the President prospective NMTI recipients. The NMTI Nomination Evaluation Committee evaluates the nominations received via public solicitation and makes its recommendations for the Medal to the Director. Committee members are distinguished experts in the fields of science, technology, business, and patent law. They come from both the public and private sectors and are appointed by the Secretary for three-year terms.

The NMTI Nomination Evaluation Committee was established in accordance with the FACA. The Committee meeting will be closed to the public, in accordance with the FACA and 5 U.S.C. 552b(c)(6) and (9)(B), because the discussion of the relative merits of the Medal nominations is likely to disclose information of a personal nature that, if shared widely, would constitute an unwarranted invasion of the personal privacy of the nominees. Premature disclosure of the Committee's recommendations would also likely significantly frustrate the implementation of the Medal program. Pursuant to 41 CFR 102-3.150(a)(6), you may submit written comments to the Committee. Please contact Linda Hosler at linda.hosler@uspto.gov or by mail at 600 Dulany St., Alexandria, VA 22314. Please provide your name, email, and phone number so USPTO staff can provide instructions on how to submit your written comments.

The Deputy Assistant Secretary for Administration, performing the non-exclusive functions and duties of the Chief Financial Officer and Assistant Secretary for Administration, United States Department of Commerce, formally determined on August 22, 2024, pursuant to section 1009(d) of the FACA, that the meeting may be closed because Committee members are concerned with matters that are within the purview of 5 U.S.C. 552b(c)(6) and (9)(B). Due to the closure of this meeting, copies of any meeting minutes will not be available. A copy of the Notice of Determination for Closure of Meeting is available for public inspection at the USPTO.

Katherine K. Vidal,
Under Secretary of Commerce for Intellectual Property and Director of the United States Patent and Trademark Office.

[FR Doc. 2024-19664 Filed 8-30-24; 8:45 am]

BILLING CODE P